ENVIRONMENTAL PROTECTION AGENCY

[FRL-9959-95-OA]

Notice of Meeting of the EPA Children's Health Protection Advisory Committee (CHPAC)

AGENCY: Environmental Protection Agency.

ACTION: Notice of meeting.

SUMMARY: Pursuant to the provisions of the Federal Advisory Committee Act, Public Law 92-463, notice is hereby given that the next meeting of the Children's Health Protection Advisory Committee (CHPAC) will be held July 18 and 19 at the Holiday Inn Capitol, 550 C Street SW., Washington, DC 20024. The CHPAC advises the Environmental Protection Agency on science, regulations, and other issues relating to children's environmental health.

DATES: July 18 and 19 at Holiday Inn Capitol in Washington, DC.

ADDRESSES: 550 C Street SW., Washington, DC, 20024.

FOR FURTHER INFORMATION CONTACT: Martha Berger, Office of Children's Health Protection, USEPA, MC 1107T, 1200 Pennsylvania Avenue NW., Washington, DC 20460, (202) 564-2191 or berger. martha@epa.gov.

SUPPLEMENTARY INFORMATION: The meetings of the CHPAC are open to the public. An agenda will be posted to epa.gov/children.

Access and Accommodations: For information on access or services for individuals with disabilities, please contact Martha Berger at 202-564-2191.

Dated: March 1, 2017.
Martha Berger,
Designated Federal Official.

[FR Doc. 2017-13656 Filed 6-29-17; 8:45 am]

BILLING CODE 6560-50-P